DEPARTMENT OF ENERGY

Office of Fossil Energy

[FE Docket No. 02-84-LNG, 02-89-LNG, et al.]

El Paso Merchant Energy, L.P. (Formerly El Paso Merchant Energy-Gas, L.P.), Distrigas LLC, et al.; Orders Granting Authority to import and Export Natural Gas Including Liquefied Natural Gas

AGENCY: Office of Fossil Energy, DOE.

ACTION: Notice of Orders.

SUMMARY: The Office of Fossil Energy (FE) of the Department of Energy gives notice that during December 2002, it issued Orders granting authority to import and export natural gas, including liquefied natural gas. These Orders are summarized in the attached appendix and may be found on the FE Web Site at http://www.fe.doe.gov (select gas regulation), or on the electronic bulletin board at (202) 586-7853. They are also available for inspection and copying in the Office of Natural Gas & Petroleum Import & Export Activities, Docket Room 3E-033, Forrestal Building, 1000 Independence Avenue, SW., Washington, DC 20585, (202) 586-8478. The Docket Room is open between the hours of 8 a.m. and 4:30 p.m., Monday through Friday, except Federal holidays.

Issued in Washington, DC, on January 7, 2003.
Clifford P. Tomaszewski,
Manager, Natural Gas Regulation, Office of Natural Gas & Petroleum, Import & Export Activities, Office of Fossil Energy.

Appendix

Orders Granting Import/Export Authorizations
[DOE/FE Authority]
Order No. | Date Issued | Import/Exporter FE Docket No. | Import Volume | Export Volume | Comments
1832 | 12-02-02 | El Paso Merchant Energy L.P., (Formerly El Paso Merchant Energy-Gas, L.P.), 02-84-LNG | 200 Bcf |  | Import LNG from various international sources beginning on December 31, 2002, and extending through December 30, 2004.
1833 | 12-03-02 | Distrigas LLC, 02-89-LNG | 100 Bcf |  | Import LNG from various international sources beginning on December 9, 2002, and extending through December 8, 2004.
1834 | 12-09-02 | KeySpan-Ravenswood, L.L.C., 02-86-NG | 44 Bcf |  | Import and export a combined total of natural gas from and to Canada, beginning on June 1, 2003, and extending through May 31, 2005.
1835 | 12-09-02 | The Berkshire Gas Company, 02-88-NG | 1 Bcf |  | Import and export a combined total of natural gas from to Canada, beginning on January 15, 2002, and extending through January 14, 2004.
1836 | 12-10-02 | Northern Utilities, Inc., 02-90-NG | 3 Bcf |  | Import and export a combined total of natural gas from and to Canada, beginning on January 15, 2003, and extending through January 14, 2005.
1837 | 12-19-02 | Engage Energy Canada, L.P., 02-82-LNG | 1,000 Bcf |  | Import and export a combined total of natural gas, including liquefied natural gas, from and to Canada, beginning on January 1, 2003, and extending through December 31, 2004.
1838 | 12-30-02 | PPG Canada Inc., 02-99-NG |  | 8,4 Bcf | Export natural gas to Canada, beginning on January 1, 2003, and extending through December 31, 2004.

[FR Doc. 03-683 Filed 1-13-03; 8:45 am]

BILLING CODE 6450-01-M